DEPARTMENT OF ENERGY

[Docket No. EERE-2007-BT-CRT-0002]

Agency Information Collection: Energy Conservation Program: Compliance and Certification Information Collection for Consumer Appliance Products

AGENCY: Department of Energy.

ACTION: Submission to the Office of Management and Budget (OMB) for review and approval; public comment request.

SUMMARY: The Department of Energy (DOE) has submitted an information collection request to the OMB for extension under the provisions of the Paperwork Reduction Act of 1995. The information collection request is for a three-year extension of its Compliance Statement and Certification Report: Energy or Water Conservation Program for Consumer Products, OMB Control Number 1910-1400, whereby a manufacturer or private labeler reports on and certifies its compliance with energy efficiency standards for consumer appliances covered under Title 10, Code of Federal Regulations, Part 430 (10 CFR Part 430)—Energy Conservation Program for Consumer Products.

DATES: Comments regarding this collection must be received on or before July 2, 2007. If you anticipate that you will be submitting comments, but find it difficult to do so within the period of time allowed by this notice, please advise the OMB Desk Officer of your intention to make a submission as soon as possible. The Desk Officer may be telephoned at (202) 395-4650.

ADDRESSES: Written comments should be sent to: Desk Officer, Office of Information and Regulatory Affairs, Office of Management and Budget, New Executive Office Building, Room 10102, 725 17th Street, NW., Washington, DC 20503.

Comments should also be addressed to: Mr. James D. Raba, Building Technologies Program, EE-2J, Energy Efficiency and Renewable Energy, U.S. Department of Energy, 1000 Independence Ave, SW., Washington, DC 20585-0121, or by fax at (202) 586-4617, or by e-mail at appliance.information@ee.doe.gov.

Any comments submitted must identify the information collection for consumer appliance products, and provide the docket number EERE-BT-CRT-2007. Comments may be submitted using any of the following methods:

• Federal eRulemaking Portal: http://www.regulations.gov. Follow the instructions for submitting comments.

• E-mail: appliance.information@ee.doe.gov. Include the docket number in the subject line of your message.

• Postal Mail: Ms. Brenda Edwards-Jones, U.S. Department of Energy, Building Technologies Program, Mailstop EE-2J, 1000 Independence Avenue, SW, Washington, DC 20585-0121. Telephone: (202) 586-2945. Please submit one signed paper original.

• Hand Delivery/Courier: Ms. Brenda Edwards-Jones, U.S. Department of Energy, Building Technologies Program, Room 1J-018, 1000 Independence Avenue, SW., Washington, DC 20585-0121. Please submit one signed original paper copy.

Docket: For access to the docket to read background documents or comments received, go to the U.S. Department of Energy, Forrestal Building, Room 1J-018 (Resource Room of the Building Technologies Program), 1000 Independence Avenue, SW., Washington, DC, (202) 586-2945, between 9 a.m. and 4 p.m., Monday through Friday, except Federal holidays. Please call Ms. Brenda Edwards-Jones at the above telephone number for additional information regarding visiting the Resource Room. Please note: DOE's Freedom of Information Reading Room (Room 1E-190 at the Forrestal Building) no longer houses rulemaking materials.

FOR FURTHER INFORMATION CONTACT: Requests for additional information or copies of the information collection instrument and instructions should be directed to James Raba , U.S. Department of Energy, Office of Energy Efficiency and Renewable Energy, Building Technologies Program, EE-2J, 1000 Independence Avenue, SW., Washington, DC 20585-0121, telephone (202) 586-8654. E-mail: jim.raba@ee.doe.gov.

SUPPLEMENTARY INFORMATION:

I. Authority and Background

Title III of the Energy Policy and Conservation Act (EPCA), as amended, provides for the Energy Conservation Program for Consumer Products Other than Automobiles and sets forth energy conservation requirements for consumer appliance products. (42 U.S.C. 6291 et seq.) EPCA authorizes the Secretary of Energy to carry out these requirements, in part, by issuing the necessary rules requiring each manufacturer of a covered product to submit information and reports to ensure compliance. (42 U.S.C. 6296(d))

On November 17, 2006, DOE published in the Federal Register a notice and request for comments regarding its proposed information collection for consumer appliance products covered under 10 CFR 430. 71 FR 66943 (November 17, 2006). DOE received no comments on its proposed information collection.

The information collection request, at appendix A to subpart F of 10 CFR Part 430, provides a format for a manufacturer or private labeler to certify compliance with the applicable energy efficiency standards prescribed under section 325 of EPCA (42 U.S.C. 6295) and covers information necessary for DOE and United States Customs Service officials to facilitate voluntary compliance with and enforcement of the energy and water conservation standards established for refrigerators, refrigerator/freezers, freezers, room air conditioners, central air conditioners, central air-conditioning heat pumps, water heaters, furnaces, dishwashers, clothes washers, clothes dryers, direct heating equipment, kitchen ranges and ovens, pool heaters, fluorescent lamp ballasts, general service fluorescent lamps and incandescent reflector lamps, and plumbing products.

Today's notice and information collection request pertains: (1) OMB No.: 1910-1400. (2) Collection Title: Title 10 Code of Federal Regulations Part 430—Energy Conservation Program for Consumer Products: Appendix A to Subpart F of Part 430—Compliance Statement and Certification Report (Energy and Water Conservation Standards for Appliances). (3) Type of Review: Renewal. (4) Purpose: Regulations that, in part, (1) require the manufacturer of private labeler of any consumer appliance subject to energy or water conservation standards prescribed under section 325 of EPCA to establish, maintain, and retain records of its test data and subsequent verification of any alternative efficiency determination method used under Part 430, and (2) preclude distribution in commerce of any basic model of consumer appliance which is subject to an energy or water conservation standard set forth under subpart C of Part 430, unless it has submitted a Compliance Certification to DOE according to the provisions under 10 CFR section 430.62, that the basic model meets the requirements of the applicable standard. This collection of information ensures compliance with the energy conservation requirements for consumer appliances. (5) Estimated Number of Respondents: 150. (6) Estimated Total Burden Hours: 4,507. (7) Number of Collections: The package contains one information and recordkeeping requirement.

Comments are invited on: (a) Whether the information collections are necessary for the proper performance of the functions of the DOE, including whether the information has practical utility; (b) the accuracy of the DOE's estimate of the burden of the information collections, including the validity of the methodology and assumptions used; (c) ways to enhance the quality, utility, and clarity of the information to be collected; and (d) ways to minimize the burden of the information collections on respondents, including through the use of automated collection techniques or other forms of information technology.

List of Subjects in 10 CFR Part 430

Administrative practice and procedure, energy conservation, reporting and recordkeeping requirements, compliance and certification, consumer appliance products.

Issued in Washington, DC, on May 22, 2007.
John Mizroch,
Principal Deputy Assistant Secretary, Energy Efficiency and Renewable Energy.

[FR Doc. E7-10510 Filed 5-30-07; 8:45 am]

BILLING CODE 6450-01-P